DEPARTMENT OF COMMERCE

National Oceanic and Atmospheric Administration

RIN 0648-XF309

Caribbean Fishery Management Council; Public Meeting

AGENCY: National Marine Fisheries Service (NMFS), National Oceanic and Atmospheric Administration (NOAA), Commerce.

ACTION: Notice of public meeting.

SUMMARY: The Caribbean Fishery Management Council (Council) will hold its 159th meeting.

DATES: The meeting will be held on April 18-19, 2017. The Council will convene on Tuesday, April 18, 2017, from 9 a.m. to 5:30 p.m., and will reconvene on Wednesday, April 19, 2017, from 9 a.m. to 5 p.m.

ADDRESSES: Renaissance St. Croix Carambola Beach Resort & Spa, Estate Davis Bay, St. Croix, USVI 00850.

FOR FURTHER INFORMATION CONTACT: Caribbean Fishery Management Council, 270 Muñoz Rivera Avenue, Suite 401, San Juan, Puerto Rico 00918, telephone: (787) 766-5926.

SUPPLEMENTARY INFORMATION: The Council will hold its 159th regular Council Meeting to discuss the items contained in the following agenda:

April 18, 2017, 9 a.m.-5:30 p.m.

• Call to Order

• Adoption of Agenda

• Consideration of 158th Council Meeting Verbatim Transcriptions

• Executive Director's Report

• Scientific and Statistical Committee Report

—February 6-10, 2017 Meeting

—April 3-7, 2017 Meeting

• District Advisory Panel Report from March 7-8, 2017 Meeting

• Island-based Fishery Management Plans

—Review and Comment on Final Draft of Goals and Objectives for each Island Group

—Review of Proposed Actions and Alternatives

—Action 1: Species to Manage (Final Draft Alternatives Complete)

—Action 2: Species Groupings (Review Final Draft Alternatives)

—Action 3: Reference Points (Review Final Draft Alternatives)

—Action 4: Essential Fish Habitat

—5-year Review Status and Timeline

—Action 5: Framework Measures

—Status and Suggested Additions

—Select Preliminary Preferred Alternative(s) for each Action

—Schedule Public Hearings

—Next Steps/Roadmap

• Regulatory Amendment 6 to the Reef Fish Fishery Management Plan: Triggering Accountability Measures in the Puerto Rico Exclusive Economic Zone

—Review Proposed Action and Alternatives

—Select Preferred Alternative

• Review of Annual Catch Limit overages and resultant 2017 Accountability Measure-based Closures

• Other Business

Public Comment Period (5-minutes presentations)

April 18, 2017, 5:30 p.m.-6:30 p.m.

• Administrative Matters

—CY 2017

—Closed Session

April 18, 2017, 7 p.m.-8 p.m.

• Public Hearings on Regulatory Amendment 6 to the Reef Fish Fishery Management Plan: Triggering Accountability Measures in the Puerto Rico Exclusive Economic Zone

April 19, 2017, 9 a.m.-5 p.m.

• St. Thomas/St. John's Fishery Management Update and Concerns—Julian Magras

• Spiny Lobster Fisheries Workshop Report—Tony Iarocci

• Electronic Reporting System Update—Ricardo López

• Regulatory Amendment 6 to the Reef Fish Fishery Management Plan: Triggering Accountability Measures in the Puerto Rico Exclusive Economic Zone

—Results from Public Hearings

—Next Step: Consider taking final action/Review codified text

• Fishery Ecosystem Plan Status Report

• Outreach and Education Report

• Enforcement Issues:

—Puerto Rico-DNER

—U.S. Virgin Islands-DPNR

—U.S. Coast Guard

—1991 DNER/NMFS Memorandum of Understanding

—NMFS/NOAA

• Meetings Attended by Council Members and Staff

Public Comment Period (5-minute presentations)

• Other Business

• Next Meeting(s)

The established times for addressing items on the agenda may be adjusted as necessary to accommodate the timely completion of discussion relevant to the agenda items. To further accommodate discussion and completion of all items on the agenda, the meeting may be extended from, or completed prior to the date established in this notice.

The meeting is open to the public, and will be conducted in English. Fishers and other interested persons are invited to attend and participate with oral or written statements regarding agenda issues.

Although non-emergency issues not contained in this agenda may come before this group for discussion, those issues may not be subjects for formal action during this meeting. Actions will be restricted to those issues specifically identified in this notice, and any issues arising after publication of this notice that require emergency action under section 305(c) of the Magnuson-Stevens Fishery Conservation and Management Act, provided that the public has been notified of the Council's intent to take final action to address the emergency.

Special Accommodations

The meeting is physically accessible to people with disabilities. For more information or request for sign language interpretation and/other auxiliary aids, please contact Mr. Miguel A. Rolón, Executive Director, Caribbean Fishery Management Council, 270 Muñoz Rivera Avenue, Suite 401, San Juan, Puerto Rico, 00918, telephone (787) 766-5926, at least five days prior to the meeting date.

Dated: March 22, 2017.
Jeffrey N. Lonergan,
Acting Deputy Director, Office of Sustainable Fisheries, National Marine Fisheries Service.

[FR Doc. 2017-06005 Filed 3-24-17; 8:45 am]

BILLING CODE 3510-22-P